DEPARTMENT OF AGRICULTURE

Agriculture Marketing Service

[AMS-TM-08-0086; TM-08-10]

Notice of 2008 National Organic Certification Cost-Share Program

AGENCY: Agricultural Marketing Services, USDA.

ACTION: Notice of funds availability.

SUMMARY: This Notice invites all States of the United States of America, its territories, the District of Columbia, and the Commonwealth of Puerto Rico, (collectively hereinafter called States) to submit an Application for Federal Assistance (Standard Form 424), and to enter into a cooperative agreement with the Agricultural Marketing Service (AMS) for the allocation of National Organic Certification Cost-Share Funds. The AMS has allocated $22.0 million for this organic certification cost-share program commencing in Fiscal Year 2008. Funds are available under this program to interested States to assist organic producers and handlers certified under the National Organic Program (NOP), as appropriate. States interested in obtaining cost-share funds must submit an Application for Federal Assistance and enter into a cooperative agreement with AMS for allocation of funds.

DATES: Completed applications for federal assistance along with signed cooperative agreements must be received by September 29, 2008, in order to participate in the program.

ADDRESSES: Applications for federal assistance and cooperative agreements shall be requested from and submitted to: Robert Pooler, Agricultural Marketing Specialist, National Organic Program, USDA/AMS/TMP/NOP, Room 4008-South, Ag Stop 0268, 1400 Independence Avenue, SW., Washington, DC 20250-0268; Telephone: (202) 720-3252; Fax: (202) 205-7808. Additional information may be found through the National Organic Program's homepage at http://www.ams.usda.gov/nop.

FOR FURTHER INFORMATION CONTACT: Robert Pooler, Agricultural Marketing Specialist, National Organic Program, USDA/AMS/TM/NOP, Room 4008-South, Ag Stop 0268, 1400 Independence Avenue, SW., Washington, DC 20250-0268; Telephone: (202) 720-3252; Fax: (202) 205-7808.

SUPPLEMENTARY INFORMATION: This National Organic Certification Cost-Share Program is authorized under 7 U.S.C. 6523, as amended by section 10301 of the Food, Conservation and Energy Act of 2008 (Act). The Act authorizes the Department to provide certification cost share assistance to producers and handlers of organic agricultural products in all States. The AMS has allocated $22 million for this program. The Program provides financial assistance to organic producers and handlers certified to the NOP. The NOP is authorized under the Organic Foods Production Act of 1990, as amended (7 U.S.C. 6501 et seq.).

To participate in the program, interested States must complete an Application for Federal Assistance (Standard Form 424) and enter into a written cooperative agreement with AMS. The program will provide cost-share assistance, through participating States, to organic producers and handlers receiving certification or continuation of certification by a USDA-accredited certifying agent commencing October 1, 2008. Under the Act payments are limited to 75 percent of an individual producer's or handler's certification costs up to a maximum of $750.00 per year.

However, for producers in the states of Connecticut, Delaware, Hawaii, Maine, Maryland, Massachusetts, Nevada, New Hampshire, New Jersey, New York, Pennsylvania, Rhode Island, Utah, Vermont, West Virginia, and Wyoming cost share funding is available to these states under the Agricultural Management Assistance Organic Certification Cost-Share Program authorized under Section 1524 of the Federal Crop Insurance Act, as amended (7 U.S.C. 1501-1524). As provided in a notice of Funds Availability published in the Federal Register on August 28, 2008, at 73 FR 50756, completed applications for this federal assistance program, along with signed cooperative agreements must be received by close of business, September 15, 2008. Information on this program can be found on the NOP's homepage at http://www.ams.usda.gov/nop.

Authority: 7 U.S.C. 6523.

Dated: September 16, 2008.
Lloyd C. Day,
Administrator, Agricultural Marketing Service.

[FR Doc. E8-22047 Filed 9-19-08; 8:45 am]

BILLING CODE 3410-02-P